DEPARTMENT OF TRANSPORTATION

Federal Aviation Administration

14 CFR Part 71

[Docket No. FAA-2021-0169; Airspace Docket No. 21-ASO-3]

RIN 2120-AA66

Amendment Class D and Class E Airspace; South Florida

AGENCY: Federal Aviation Administration (FAA), DOT.

ACTION: Final rule.

SUMMARY: This action amends Class D and Class E airspace in the south Florida area, by updating the geographic coordinates of the following airports; Fort Lauderdale-Hollywood International Airport, Miami-Opa Locka Executive Airport, (formerly Opa Locka Airport), North Perry Airport, Pompano Beach Airpark, Miami International Airport, Homestead ARB, Boca Raton Airport, and Miami Executive Airport (formerly Kendall-Tamiami Executive Airport). This action also updates the geographic coordinates of the Fort Lauderdale Very High Frequency Omnidirectional Range collocated with Distance Measuring Equipment (VOR/DME), and the QEEZY Locator Outer Marker (LOM). Furthermore, this action makes an editorial change replacing the term Airport/Facility Directory with the term Chart Supplement in the legal descriptions of associated Class D and E airspace. Controlled airspace is necessary for the safety and management of instrument flight rules (IFR) in the area.

DATES: Effective 0901 UTC, January 27, 2022. The Director of the Federal Register approves this incorporation by reference action under 1 CFR part 51, subject to the annual revision of FAA Order 7400.11 and publication of conforming amendments.

ADDRESSES: FAA Order 7400.11E, Airspace Designations and Reporting Points, and subsequent amendments can be viewed online at http://www.faa.gov/air_traffic/publications/. For further information, you can contact the Airspace Policy Group, Federal Aviation Administration, 800 Independence Avenue SW, Washington, DC 20591; Telephone: (202) 267-8783. The Order is also available for inspection at the National Archives and Records Administration (NARA). For information on the availability of FAA Order 7400.11E at NARA, email fr.inspection@nara.gov or go to https://www.archives.gov/federal-register/cfr/ibr-locations.html.

FOR FURTHER INFORMATION CONTACT: John Fornito, Operations Support Group, Eastern Service Center, Federal Aviation Administration, 1701 Columbia Ave., College Park, GA 30337; Telephone (404) 305-6364.

SUPPLEMENTARY INFORMATION:

Authority for This Rulemaking

The FAA's authority to issue rule regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace in the south Florida area, to support IFR operations in the area.

History

The FAA published a notice of proposed rulemaking in the Federal Register (86 FR 33581, June 25, 2021) for Docket No. FAA-2021-0169 to amend Class D and Class E airspace in the south Florida area, by updating the names and geographic coordinates of several airports in the area, as well as the geographical coordinates of the Fort Lauderdale VOR/DME, and the QEEZY LOM. This action proposed making an editorial change replacing the term Airport/Facility Directory with the term Chart Supplement in the legal descriptions of associated Class D and E airspace.

Interested parties were invited to participate in this rulemaking effort by submitting written comments on the proposal to the FAA. No comments were received.

Class E airspace designations are published in Paragraphs 5000, 6002, 6003, and 6005, respectively, of FAA Order 7400.11E, dated July 21, 2020, and effective September 15, 2020, which is incorporated by reference in 14 CFR 71.1. The Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic routes, and reporting points.

The Rule

The FAA amends 14 CFR part 71 by amending Class D and Class E surface airspace, and Class E airspace extending upward from 700 feet above the surface by updating the geographical coordinates of several airports and associated navigation aids in the south Florida area, and removing Class E airspace designated as an extension to a Class C surface area. The FAA is updating the airport names of Miami Executive Airport (formerly Kendall-Tamiami Executive Airport), and Miami Opa-Locka Executive Airport (formerly Opa Locka Airport), and Homestead ARB (formerly Dade County-Homestead Regional Airport) in the Class D airspace, Class E surface airspace, and Class E airspace extending upward from 700 feet above the surface. The FAA is amending the Miami, Opa Locka Executive Airport, FL Class D header, (formerly Miami, Opa Locka Airport, FL as well. In addition, the FAA is replacing the outdated term Airport/Facility Directory with the term Chart Supplement in the associated Class D and E airspace legal descriptions for these airports. Also, Boca Raton Class E airspace extending upward from 700 feet above the surface excludes the reference to Pompano Beach Class D airspace, as this is unnecessary verbiage. These changes are necessary for continued safety and management of IFR operations in the area.

Subsequent to publication of the NPRM the FAA found that the Fort Lauderdale E3 extensions are no longer required. This action removes the E3 Descriptor for Fort Lauderdale.

The Class D descriptor for Fort Lauderdale Executive Airport incorrectly listed the airport runways as 8/26. This action corrects the runways to 9/27.

In addition, the Class D descriptor for Boca Raton Airport was omitted from the NPRM. This action adds the Class D descriptor for Boca Raton Airport, adding “excluding that airspace within the Pompano Beach, Class D airspace area, when active.”

Finally, the NPRM listed the geographic coordinates incorrectly for North Perry Airport, Fort Lauderdale Executive Airport and the Boca Raton Airport, as well as the line dividing Fort Lauderdale Executive Airport and Pompano Beach Airport. This action corrects these errors.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air)

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

ASO FL D Hollywood, FL [Amended]

North Perry Airport, FL

(Lat. 26°00′04″ N, long. 80°14′27″ W)

Miami-Opa Locka Executive Airport

(Lat. 25°54′27″ N, long. 80°16′42″ W)

That airspace extending upward from the surface to and including 2,500 feet MSL within a 4-mile radius of the North Perry Airport; excluding the portion north of the north boundary of the Miami, FL, Class B airspace area and that portion south of a line connecting the 2 points of intersection with a 4.3-mile radius centered on the Miami-Opa Locka Executive Airport. This Class D airspace area is effective during specific dates and times established in advance by a Notice to Airmen. The effective date and time will thereafter be continuously published in the Chart Supplement.

ASO FL D Miami, Opa Locka Executive Airport, FL [Amended]

Miami-Opa Locka Executive Airport, FL

(Lat. 25°54′27″ N, long. 80°16′42″ W)

North Perry Airport

(Lat. 26°00′04″ N, long. 80°14′27″ W)

That airspace extending upward from the surface to and including 2,500 feet MSL within a 4.3-mile radius of Miami-Opa Locka Executive Airport excluding that airspace south of 25°52′03″ N, and that portion north of a line connecting the 2 points of intersection with a 4-mile radius centered on the North Perry Airport. This Class D airspace area is effective during specific dates and times established in advance by a Notice to Airmen. The effective date and time will thereafter be continuously published in the Chart Supplement.

ASO FL D Fort Lauderdale Executive Airport, FL [Amended]

Fort Lauderdale Executive Airport, FL

(Lat. 26°11′50″ N, long. 80°10′15″ W)

Fort Lauderdale-Hollywood International Airport, FL

(Lat. 26°04′18″ N, long. 80°08′59″ W)

That airspace extending upward from the surface to and including 2,500 feet MSL within a 4-mile radius of Fort Lauderdale Executive Airport; excluding that portion within the Fort Lauderdale-Hollywood International Airport, FL, Class C airspace area and that portion northeast of a line between lat. 26°15′47″ N long. 80°11′00″ W; and lat. 26°13′01″ N long. 80°09′15″ W and that portion north of a line 1 mile north of and parallel to the extended runway centerline of Runway 9/27 at Fort Lauderdale Executive Airport. This Class D airspace area is effective during the specific days and times established in advance by a Notice to Airmen. The effective days and times will thereafter be continuously published in the Chart Supplement.

ASO FL D Pompano Beach, FL [Amended]

Pompano Beach, Airpark, FL

(Lat. 26°14′51″ N, long. 80°06′40″ W)

Fort Lauderdale Executive Airport, FL

(Lat. 26°11′50″ N, long. 80°10′15″ W)

That airspace extending upward from the surface to and including 2,500 feet MSL within a 4-mile radius of Pompano Beach Airpark; excluding that portion southwest of a line between lat. 26°15′47″ N long. 80°11′00″ W; and lat. 26°13′01″ N long. 80°09′15″ W and that portion south of a line 1 mile north of and parallel to the extended runway centerline of Runway 9/27 at Fort Lauderdale Executive Airport. This Class D airspace area is effective during the specific days and times established in advance by a Notice to Airmen. The effective days and times will thereafter be continuously published in the Chart Supplement.

ASO FL D Miami Executive Airport, FL [Amended]

Miami Executive Airport, FL

(Lat. 25°38′51″ N, long. 80°26′00″ W)

That airspace extending upward from the surface to and including 2,500 feet MSL within a 3.5-mile radius of the Miami Executive Airport, FL; excluding that airspace within the Miami, FL, Class B airspace area. This Class D airspace area is effective during the specific dates and times established in advance by a Notice to Airmen. The effective date and time will thereafter be continuously published in the Chart Supplement.

ASO FL D Boca Raton, FL [Amended]

Boca Raton Airport, FL

(Lat. 26°22′43″ N, long. 80°06′28″ W)

That airspace extending upward from the surface to and including 2,500 feet MSL within a 4.1-mile radius of Boca Raton Airport; excluding that airspace within the Pompano Beach, Class D airspace area, when active. This Class D airspace area is effective during the specific dates and times established in advance by a Notice to Airmen. The effective date and time will thereafter be continuously published in the Chart Supplement.

Paragraph 6003 Class E Airspace Designated as an Extension to Class C.

* * * * *

ASO FL E3 Fort Lauderdale, FL [Removed]

Paragraph 6005 Class E Airspace Areas Extending Upward From 700 Feet or More Above the Surface of the Earth.

* * * * *

ASO FL E5 Miami, FL [Amended]

Miami International Airport, FL

(Lat. 25°47′43″ N, long. 80°17′24″ W)

Homestead ARB

(Lat. 25°29′19″ N, long. 80°23′01″ W)

Miami Opa-Locka Executive Airport

(Lat. 25°54′27″ N, long. 80°16′42″ W)

Fort Lauderdale-Hollywood International Airport

(Lat. 26°04′18″ N, long. 80°08′59″ W)

Miami Executive Airport

(Lat. 25°38′51″ N, long. 80°26′00″ W)

QEEZY LOM

(Lat. 25°38′29″ N, long. 80°30′17″ W)

Fort Lauderdale Executive Airport

(Lat. 26°11′50″ N, long. 80°10′15″ W)

Pompano Beach Airpark

(Lat. 26°14′51″ N, long. 80°06′40″ W)

North Perry Airport

(Lat. 26°00′04″ N, long. 80°14′27″ W)

That airspace extending upward from 700 feet above the surface within a 7-mile radius of Miami International Airport, Homestead ARB, Miami Opa-Locka Executive Airport, Fort Lauderdale-Hollywood International Airport, and Miami Executive Airport, and within 2.4 miles each side of the 267° bearing from the QEEZY LOM extending from the 7-mile radius to 7 miles west of the LOM, and within a 6.5-mile radius of Fort Lauderdale Executive Airport, Pompano Beach Airpark and North Perry Airport.

ASO FL E5 Boca Raton, FL [Amended]

Boca Raton Airport, FL

(Lat. 26°22′43″ N, long. 80°06′28″ W)

That airspace extending upward from 700 feet above the surface within a 6.5-mile radius of Boca Raton Airport.

Issued in College Park, Georgia, on September 1, 2021.
Andreese C. Davis,
Manager, Airspace & Procedures Team South, Eastern Service Center, Air Traffic Organization.

[FR Doc. 2021-19268 Filed 9-7-21; 8:45 am]

BILLING CODE 4910-13-P